DEPARTMENT OF THE INTERIOR

Fish and Wildlife Service

[FWS-R2-ES-2010-N062; 20124-11130000-C2]

Endangered and Threatened Wildlife and Plants; Mexican Wolf (Canis lupus baileyi) Conservation Assessment

AGENCY: Fish and Wildlife Service, Interior.

ACTION: Notice of availability: Conservation assessment.

SUMMARY: We, the U.S. Fish and Wildlife Service (Service), announce the availability of the Mexican Wolf Conservation Assessment (assessment). The assessment provides scientific information relevant to the conservation of the Mexican wolf (Canis lupus baileyi) in Arizona and New Mexico as a component of the Service's gray wolf (Canis lupus) recovery efforts. Not required by the Endangered Species Act (Act), the assessment is a nonregulatory document that does not require action by any party.

ADDRESSES: An electronic copy of the assessment is on our Web site at http://www.fws.gov/southwest/es/Library/. You may also obtain a paper copy by contacting Maggie Dwire, by U.S. mail at U.S. Fish and Wildlife Service, New Mexico Ecological Services Field Office, 2105 Osuna NE, Albuquerque, NM 87113; by telephone at 505-761-4783; by facsimile at 505-346-2542; or by e-mail at Maggie_Dwire@fws.gov.

FOR FURTHER INFORMATION CONTACT: Maggie Dwire (see ADDRESSES).

SUPPLEMENTARY INFORMATION:

Listed Entity

The Mexican wolf was listed as an endangered subspecies of gray wolf in 1976 (41 FR 17736, April 28, 1976). In 1978, the Service listed the gray wolf species in North America south of Canada as endangered, except in Minnesota where it was listed as threatened (43 FR 9607, March 9, 1978). The 1978 rangewide listing of the gray wolf species subsumed the subspecies listing; however, we stated in the preamble to the rule that the Service would continue to recognize the Mexican wolf as a valid biological subspecies for purposes of research and conservation (43 FR 9607). After the 1978 listing of the gray wolf in the U.S. Code of Federal Regulations (CFR), the 50 CFR 17.11(h) List of Endangered and Threatened Wildlife did not explicitly refer to an entity called the “Mexican wolf.” Due to the Mexican wolf's previous listed status as a subspecies, we have continued to refer to the gray wolf in the southwestern United States as the “Mexican wolf.” Today, the gray wolf has been delisted in Idaho and Montana and portions of Oregon, Washington, and Utah (74 FR 15123, April 2, 2009). It is listed as threatened in Minnesota and remains endangered throughout the remaining coterminous United States and Mexico, except where designated as nonessential experimental populations (63 FR 1752, January 12, 1998, and 74 FR 15123).

Background

The conservation and recovery of species are primary goals of the Service's endangered species program. The Mexican wolf historically inhabited the southwestern United States and portions of Mexico until it was virtually eliminated in the wild by private and governmental predator eradication efforts in the late 1800s and early to mid-1900s. Conservation and recovery efforts to ensure the survival of the Mexican wolf were initially guided by the 1982 Mexican Wolf Recovery Plan (U.S. Fish and Wildlife Service 1982) (recovery plan), which recommended the establishment of a captive breeding program and the reintroduction of Mexican wolves to the wild. Both of these recommendations have been implemented. Today an international captive breeding program houses more than 300 wolves, and a wild population of approximately 42 wolves (as of the official 2009 end-of-year count) inhabits Arizona and New Mexico.

Although the 1982 recovery plan was instrumental in guiding the inception of the Mexican wolf program in the southwest, the plan requires updating to provide current guidance for the reintroduction and recovery effort. We have initiated revisions to the 1982 recovery plan, but have been unable to finalize a revision due to various constraints. We are working to resolve these constraints to reinitiate a full revision of the recovery plan, and are undertaking this conservation assessment as an interim step.

This assessment provides the type of information typically contained in a recovery plan, including the listing history of the Mexican wolf and gray wolf, current species' biology and ecology, an assessment of current threats to the Mexican wolf in the wild, and an overview and assessment of current conservation and recovery efforts. However, the assessment is not intended to serve as a revised recovery plan for the Mexican wolf. The assessment does not contain recovery criteria, site-specific management actions, or time and cost estimates, the three statutorily required elements of a recovery plan (16 U.S.C. 1533(f)(1)(B)), nor does it contain recommendations for the future of our Mexican wolf program in the southwest. Social and economic aspects of wolf conservation are not addressed in the document. It is a nonregulatory document intended solely as a compilation of current scientific information relevant to Mexican wolf conservation that may be used by any interested party. We intend to use the document as one of many information sources guiding our continuing conservation and recovery efforts in the southwest.

We made the draft conservation assessment available for public review and comment for 60 days (74 FR 913, January 9, 2009). We also conducted a peer review of the assessment during this time. After consideration of public and peer review comments, we made revisions to the assessment and provide the final document to the public with this notice.

Authority: The authority for this action is the Endangered Species Act of 1973 (16 U.S.C. 1531 et seq.).

Dated: March 16, 2010.
Benjamin N. Tuggle,
Regional Director, Region 2.

[FR Doc. 2010-10470 Filed 5-4-10; 8:45 am]

BILLING CODE 4310-55-P